DEPARTMENT OF TRANSPORTATION

Pipeline and Hazardous Materials Safety Administration

Hazardous Materials: Notice of Applications for New Special Permits

AGENCY: Pipeline and Hazardous Materials Safety Administration (PHMSA), DOT.

ACTION: List of applications for special permits.

SUMMARY: In accordance with the procedures governing the application for, and the processing of, special permits from the Department of Transportation's Hazardous Material Regulations, notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before August 9, 2021.

ADDRESSES: Record Center, Pipeline and Hazardous Materials Safety Administration, U.S. Department of Transportation Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Copies of the applications are available for inspection in the Records Center, East Building, PHH-13, 1200 New Jersey Avenue Southeast, Washington, DC.

This notice of receipt of applications for special permit is published in accordance with part 107 of the Federal hazardous materials transportation law (49 U.S.C. 5117(b); 49 CFR 1.53(b)).

Issued in Washington, DC, on July 1, 2021.
Donald P. Burger,
Chief, General Approvals and Permits Branch.

Application No. | Applicant | Regulation(s) affected | Nature of the special permits thereof
SPECIAL PERMITS DATA
21245-N | Rivian Automotive, LLC | 172.101(j) | To authorize the transportation of lithium batteries in excess of 35 kg by cargo-only aircraft. (mode 4).
21246-N | Ensign-Bickford Aerospace & Defense Co | 172.320(a), 173.51(a), 173.56(b) | To authorize the transportation in commerce of subassembly components of previously approved assemblies without subassembly components being tested, classed, and approved. (mode 1).
21247-N | Volkswagen AG | 172.101(j) | To authorize the transportation in commerce of lithium ion batteries exceeding 35 kg by cargo-only aircraft. (mode 4).
21251-N | Luxfer Inc | 173.302a(a), 180.205 | To authorize the manufacture, marking, sale and use of non-DOT specification fully wrapped composite cylinders with load sharing aluminum liner with either aramid fiber or carbon fiber reinforcement, for use in aircraft with a limited number of filling cycles. (modes 4, 5).
21252-N | Honda Racing Development UK Ltd | 173.185(a)(1) | To authorize the transportation in commerce of prototype lithium batteries by cargo-only aircraft. (mode 4).
21253-N | Ford Motor Company | 172.101(j) | To authorize the transportation in commerce of lithium ion batteries exceeding 35 kg by cargo-only aircraft. (mode 4).
21254-N | Praxair Distribution, Inc | 173.301(f)(1) | To authorize the transportation in commerce Chlorine (UN1017) in DOT specification cylinders, UN standard cylinders prescribed in part 178 of 49 CFR, DOT special permit cylinders, or TC cylinders which are not equipped with pressure relief devices. (modes 1, 2, 3).
21255-N | Mac Trailer Manufacturing, Inc | 172.203(a), 178.345-2, 178.346-2, 178.347-2, 178.348-2 | To authorize the manufacture, marking, sale and use of DOT 400 series cargo tanks fabricated using certain duplex stainless steels and other materials not authorized in 49 CFR 178.345-2 as materials of construction and fabricated with thickness less than specified. (mode 1).
21256-N | Veolia Es Technical Solutions, LLC | 173.56(b) | To authorize the one-time, one-way transportation in commerce of unapproved explosives originating at Aberdeen Proving Ground and transported to Veolia's waste incinerator for final disposal located at in Sauget, Illinois. (mode 1).
21257-N | The Procter & Gamble Company | 173.306(a)(5)(v), 173.306(a)(5)(vi) | To authorize the transportation in commerce of non-flammable, non-toxic compressed gases (Division 2.2) in DOT Specification 2S and non-DOT specification plastic aerosols not exceeding 1 L capacity designed and tested through an in-line pressure testing approach under a quality management system. (modes 1, 2, 3, 4).
21259-N | Quantum Fuel Systems LLC | 173.302(a)(1) | To authorize the manufacture, mark, sale, and use of non-DOT specification fully wrapped fiber reinforced composite gas cylinder with a non-load sharing plastic liner similar to ISO 11515:2013. (mode 1).

[FR Doc. 2021-14527 Filed 7-7-21; 8:45 am]

BILLING CODE 4909-60-P